DEPARTMENT OF THE INTERIOR

Bureau of Land Management

[WY-920-1320-EM, WYW136142]

Federal Coal Lease Modification, WY

AGENCY: Bureau of Land Management, Interior.

ACTION: Notice of Availability of the Environmental Assessment (EA) and Notice of Public Hearing on the Modification of Federal Coal Lease WYW136142 at the North Antelope/ Rochelle Mine Complex operated by Powder River Coal Company, in Campbell County, WY.

SUMMARY: Pursuant to the National Environmental Policy Act (NEPA) and implementing regulations and other applicable statutes, the Bureau of Land Management (BLM) announces the availability of the Environmental Assessment (EA) for the modification of Federal coal lease WYW136142 in the Wyoming Powder River Basin, and announces the scheduled date and place for a public hearing pursuant to 43 CFR 3432, 3425.3 and 3425.4. The EA addresses the impacts of modifying this Federal coal lease and mining the modification area as a part of the North Antelope/Rochelle Mine Complex operated by Powder River Coal Company, in Campbell County, WY. The purpose of the hearing is to solicit public comments on the EA, the fair market value (FMV), the maximum economic recovery (MER), and the proposed noncompetitive offer of the coal included in the proposed lease modification. This lease modification is being considered for offer as a result of a request received from Powder River Coal Company on June 14, 2000. The tract as requested includes about 19.97 acres containing approximately 2.5 million tons of Federal coal reserves.

DATES: A public hearing will be held at 7 p.m. MDT, on May 14, 2002, at the BLM, Casper Field Office, 2987 Prospector Drive, Casper, WY. Written comments on the EA will be accepted for 30 days from the date this notice is published.

ADDRESSES: Please address questions, comments or requests for copies of the EA to the BLM, Casper Field Office, Attn: Mike Karbs, 2987 Prospector Drive, Casper, WY 82604; or you may e-mail them to the attention of Mike Karbs at casper—wymail@blm.gov; or fax them to 307-261-7587.

FOR FURTHER INFORMATION CONTACT: Mike Karbs or Nancy Doelger at the above address, or phone: 307-261-7600.

SUPPLEMENTARY INFORMATION: The BLM Casper Field Office has received a request to modify an existing Federal coal lease at the North Antelope/ Rochelle Mine Complex. This mine is operated by Powder River Coal Company, and is located in Campbell County, WY, approximately 20 miles southeast of Wright. On June 14, 2000, Powder River Coal Company filed an application with the BLM to modify federal lease WYW136142 by adding the following lands:

T. 41 N., R. 70 W., 6th PM, Wyoming

Section 18: Lot 6 (N½) or (N½NW¼NE¼).

This tract is adjacent to Powder River Coal Company's North Antelope/ Rochelle Mine Complex and includes 19.97 acres more or less with an estimated 2.5 million tons of coal. This application was filed as a lease modification under the provisions of 43 CFR 3432.

BLM believes that this lease modification serves the interests of the U.S. because it allows for a more efficient recovery of coal in a narrow or “neck” area of the current lease. This modification area is logically recovered as a part of the planned operations on the existing lease, and while this area could be recovered as part of a later competitive coal lease tract, that is not a certainty. If this coal is recovered in concert with the existing lease, it would result in minimal additional surface disturbance.

BLM further believes that there is no current competitive interest in the lands proposed for lease modification, although as noted above, this area could be recovered as part of a later competitive coal lease tract, but that may or may not occur. This lease modification would not reduce the competitive value of a later competitive coal lease tract. Under the lease modification process, the modified lands would be added to the existing lease without competitive bidding. Before offering the lease modification the BLM will prepare an appraisal of the FMV of the lease. The U.S. would receive FMV of the lease for the added lands.

The proposed lease modification is within the mine permit area of the North Antelope/Rochelle Mine Complex. No new facilities or employees would be needed to mine the coal. Haul distances would not be increased. If production at the North Antelope/Rochelle Mine continues at the 2000 rate of 70 million tons of coal, the 2.5 million tons of coal included in the proposed lease modification would represent less than one-half month of production. The lands have most recently been studied under the National Environmental Policy Act of 1969 (NEPA) as part of the Powder River/Thundercloud LBA EIS (lease by application environmental impact statement), as well as several earlier NEPA analyses. The environmental assessment incorporates these existing NEPA analyses. If this tract is modified into the current lease, the new lands must be incorporated into the existing mining plans for the North Antelope/ Rochelle Mine Complex. The Office of Surface Mining Reclamation and Enforcement (OSM) is a cooperating agency in the preparation of the environmental document because it is the Federal agency that is responsible for any required actions necessary to incorporate these lands into the current mining plan.

BLM conducted scoping during August 2001, soliciting specific concerns that should be considered in processing this modified lease application, with scoping comments accepted through September 7, 2001. A NEPA analysis addressing issues identified or information received during this scoping period for the proposed lease modification was completed and distributed to the public on September 27, 2001. There was a public comment period on the NEPA analysis, with comments accepted until November 7, 2001. A public hearing was held on October 9, 2001, at the Clarion Western Plaza Hotel in Gillette, WY, to solicit public comment on the NEPA analysis, the proposed modification, and the FMV and MER of coal in the proposed tract. The EA addresses all the issues and information received as a result of the scoping and the review of the NEPA analysis. The EA was mailed to all known parties interested in this action on February 14, 2001. All written comments received and any additional comments received at the hearing or for 30 days from the date this notice is published will be addressed in the decision for this lease modification. In addition to preparing the EA, BLM will also develop possible stipulations regarding mining operations, determine the FMV of the tract, and evaluate MER of the coal in the proposed tract while processing this lease modification.

Comments on the EA, the FMV, the MER, and the proposed noncompetitive offer of the coal included in the proposed lease modification, as well as comments already received, including names and street addresses of respondents, will be available for public review at the address below during regular business hours (7:45 a.m.-4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

Dated: March 28, 2002.
Phillip C. Perlewitz,
Chief, Branch of Solid Minerals.

[FR Doc. 02-8883 Filed 4-11-02; 8:45 am]

BILLING CODE 4310-22-P